DEPARTMENT OF HEALTH AND HUMAN SERVICES

National Institutes of Health

Proposed Collection; 60-Day Comment Request; NIH Office of Intramural Training & Education Application (OD)

SUMMARY: In compliance with the requirement of Section 3506(c)(2)(A) of the Paperwork Reduction Act of 1995, for opportunity for public comment on proposed data collection projects, the Office of Intramural Training & Education (OITE), Office of the Director (OD), the National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To obtain a copy of the data collection plans and instruments, submit comments in writing, or request more information on the proposed project, contact: Dr. Patricia Wagner, Office of Intramural Training & Education (OITE), 2 Center Drive; Building 2/Room 2E06; Bethesda, Maryland 20892, or call non-toll-free number 240-476-3619, or Email your request, including your address to: wagnerpa@od.nih.gov. Formal requests for additional plans and instruments must be requested in writing.

DATES: Comments regarding this information collection are best assured of having their full effect if received within 60 days of the date of this publication.

SUPPLEMENTARY INFORMATION: NIH Office of Intramural Training & Education Application, Revision, 0925-0299 Expiration Date: 3/31/2016, Office of Intramural Training & Education (OITE), Office of the Director (OD), National Institutes of Health (NIH).

Need and Use of Information Collection: The Office of Intramural Training & Education (OITE) administers a variety of programs and initiatives to recruit pre-college through pre-doctoral educational level individuals into the National Institutes of Health Intramural Research Program (NIH-IRP) to facilitate their development into future biomedical scientists. The proposed information collection is necessary in order to determine the eligibility and quality of potential awardees for traineeships in these programs. The applications for admission consideration include key areas such as: Personal information, ability to meet eligibility criteria, contact information, university assigned student identification number, training program selection, scientific discipline interests, educational history, standardized examination scores, reference information, resume components, employment history, employment interests, dissertation research details, letters of recommendation, financial aid history, sensitive data, travel information, as well as feedback questions about interviews and application submission experiences. Sensitive data collected on the applicants: Race, gender, ethnicity, relatives at the NIH, and recruitment method, are made available only to OITE staff members or in aggregate form to select the NIH offices and are not used by the admission committees for admission consideration.

OMB approval is requested for 3 years. There are no costs to respondents other than their time. The total estimated annualized burden hours are 16,332.55.

Estimated Annualized Burden Hours
Type of respondent | Estimated number of respondents | Estimated number of responses annually per respondent | Estimated total annual burden hours | Estimated total annual burden hours
Summer Internship Program—Application | 7,525 | 1 | 1 | 7,525
Amgen Scholars at NIH Program—Supplemental Application | 300 | 1 | 3/60 | 15
High School Scientific Training & Enrichment Program—Contact Information | 40 | 1 | 3/60 | 2
NIH Visit Week—Application | 30 | 1 | 1 | 30
Undergraduate Scholarship Program (UGSP)—Application | 150 | 1 | 1 | 150
Undergraduate Scholarship Program—Certificate of Exceptional Financial Need (Completed by Applicant) | 300 | 1 | 3/60 | 15
Undergraduate Scholarship Program—Certificate of Exceptional Financial Need (Completed by University Staff) | 300 | 1 | 15/60 | 75
Undergraduate Scholarship Program (UGSP)—Renewal Application | 15 | 1 | 1 | 15
Undergraduate Scholarship Program—Deferment Form (Completed by UGSP Scholar) | 40 | 1 | 3/60 | 2
Undergraduate Scholarship Program—Deferment Form (Completed by University Staff) | 40 | 1 | 15/60 | 10
Undergraduate Scholarship Program—Scholar Contract | 30 | 1 | 10/60 | 5
Undergraduate Scholarship Program—Evaluation of Scholar PayBack Period | 50 | 1 | 15/60 | 13
Postbaccalaureate/Technical Training Program—Application | 2,050 | 1 | 1 | 2,050
NIH Academy Training Program—Supplemental Application | 225 | 1 | 1 | 225
Graduate Partnerships Program—Application | 275 | 1 | 1 | 275
Graduate Partnerships Program—Registration | 150 | 1 | 1 | 150
Graduate Partnerships Program—Interview Experience Survey (60% Response Rate) | 30 | 1 | 10/60 | 5
Evaluation—Recommendation Letters for Prospective Students | 22,570 | 1 | 15/60 | 5,643
Survey—Optional Statistics (Majority of Programs; 25% Response Rate) | 2,571 | 1 | 3/60 | 129
Totals | 36,691 | 36,691 |  | 16,334

Dated: November 4, 2015.
Lawrence A. Tabak,
Deputy Director, National Institutes of Health.

[FR Doc. 2015-28600 Filed 11-9-15; 8:45 am]

BILLING CODE 4140-01-P